DEPARTMENT OF THE INTERIOR

Bureau of Land Management

[LLCON04000 L16100000.DP0000-16X]

Notice of Availability of the Record of Decision Adopting U.S. Forest Service's Final Environmental Impact Statement for Oil and Gas Leasing on Lands Administered by the White River National Forest, CO

AGENCY: Bureau of Land Management, Interior.

ACTION: Notice.

SUMMARY: In accordance with the National Environmental Policy Act of 1969 (NEPA), the Bureau of Land Management (BLM) announces the availability of the Record of Decision (ROD) adopting the Final United States Forest Service's (USFS) “White River National Forest Oil and Gas Leasing Final Environmental Impact Statement (EIS),” which identifies the lands available for oil and gas leasing in the White River National Forest, including stipulations to protect surface resources.

ADDRESSES: Copies of the ROD are available for public inspection at the BLM Colorado River Valley Field Office, 2300 River Frontage Road, Silt, CO 81652. Interested persons may also review the ROD on the project Web site at https://eplanning.blm.gov/epl-front-office/eplanning/nepa/nepa_register.do.

FOR FURTHER INFORMATION CONTACT: Greg Larson, Project Manager, at the address above, by telephone at 970-876-9000, or by email at glarson@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The BLM's ROD formally adopts the USFS, December 2014, White River National Forest Oil and Gas Leasing Final EIS. The Department of the Interior (DOI) and the BLM concur with the selection of a combination of Alternatives B and C as described in the USFS ROD (December 3, 2015). As identified in 40 CFR 1506.3(a), “[a]n agency may adopt a Federal draft or final . . . [EIS] or portion thereof provided that the statement or portion thereof meets the standards for an adequate statement under these [the Council on Environmental Quality (CEQ)] regulations.” The BLM affirms that this Final EIS meets all requirements of the CEQ, DOI and BLM for preparation of an EIS.

Oil and gas leasing on National Forest System Lands is a collaborative process between the USFS and the BLM. The USFS is responsible for making land availability decisions, while the BLM is responsible for issuing and managing oil and gas leases, as described in the Federal Onshore Oil and Gas Leasing Reform Act.

The BLM was a Cooperating Agency in the preparation of the USFS's Final EIS. Per 40 CFR 1506.3(c), the BLM adopts the Final EIS without re-circulating, as the BLM has concluded that its comments and suggestions were incorporated during the NEPA process.

This decision is approved by the Deputy Secretary of DOI; therefore, it is not subject to administrative appeal (43 CFR 4.410(a)(3)).

Authority: 40 CFR 1506.6, 40 CFR 1506.10.

Ruth Welch,
BLM Colorado State Director.

[FR Doc. 2016-28806 Filed 11-29-16; 8:45 am]

BILLING CODE 4310-JB-P